DEPARTMENT OF ENERGY

Bonneville Power Administration

Goodnoe Hills and White Creek Wind Energy Projects, October 2005

AGENCY: Bonneville Power Administration (BPA), Department of Energy (DOE).

ACTION: Notice of availability of Record of Decision (ROD).

SUMMARY: BPA has decided to offer contract terms for interconnection of the Goodnoe Hills and White Creek Wind Energy Projects into the Federal Columbia River Transmission System (FCRTS) at the Rock Creek substation in Klickitat County, Washington. The Large Generation Interconnection Agreement (LGIA) provides for interconnection of the Wind Projects with the FCRTS, the operation of Goodnoe Hills and White Creek Wind Energy Projects in the BPA Control Area (including control area services such as generation imbalance service), and the maintenance of reliability of the FCRTS and interconnected systems. It also provides for the construction, operation and maintenance of the interconnection facilities (i.e., the Rock Creek substation). As described above, BPA has considered both the economic and environmental consequences of taking action to integrate power from the Wind Projects into the FCRTS. This notice announces the availability of the ROD to offer terms to interconnect the Wind Projects based on the Business Plan Final Environment Impact Statement (BP EIS) (DOE/EIS-0183, June 1995), and the Business Plan Record of Decision (BP ROD, August 15, 1995). BPA has decided to offer terms to interconnect the Wind Projects in Klickitat County, Washington.

ADDRESSES: Copies of the ROD and EIS may be obtained by calling BPA's toll-free document request line, 1-800-622-4520. The ROD and EIS Summary are also available on our Web site, http://www.efw.bpa.gov.

FOR FURTHER INFORMATION, CONTACT: Nancy Wittpenn, Bonneville Power Administration—KEC-4, P.O. Box 3621, Portland, Oregon, 97208-3621; toll-free telephone number 1-800-282-3713; fax number 503-230-5699; or e-mail nawittpen@bpa.gov.

Issued in Portland, Oregon, on November 16, 2005.
Stephen J. Wright,
Administrator and Chief Executive Officer.

[FR Doc. E5-6522 Filed 11-23-05; 8:45 am]

BILLING CODE 6450-P